DEPARTMENT OF JUSTICE

[OMB Number 1110-0006]

Agency Information Collection Activities; Proposed eCollection eComments Requested; Extension of a Previously Approved Collection; Law Enforcement Officers Killed and Assaulted

AGENCY: Criminal Justice Information Services Division, Federal Bureau of Investigation (FBI), Department of Justice.

ACTION: 60-Day notice.

SUMMARY: The Criminal Justice Information Services (CJIS) Division, FBI, Department of Justice (DOJ), will be submitting the following information collection request to the Office of Management and Budget (OMB) for review and approval in accordance with the Paperwork Reduction Act (PRA) of 1995.

DATES: Comments are encouraged and will be accepted for 60 days until October 6, 2025.

FOR FURTHER INFORMATION CONTACT: If you have additional comments especially on the estimated public burden or associated response time, suggestions, or need a copy of the proposed information collection instrument with instructions or additional information, please contact Linda Shriver, Acting Unit Chief, Crime and Law Enforcement Statistics Unit, FBI, CJIS Division, Module D-2, 1000 Custer Hollow Road, Clarksburg, West Virginia 26306; telephone: 304-625-4830; email: llshriver@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under Title 28, United States Code, Section 534, Acquisition, Preservation, and Exchange of Identification Records; Appointments of Officials, this collection requests Law Enforcement Officers Killed and Assaulted (LEOKA) data from federal, state, county, city, tribal, and territorial law enforcement agencies in order for the FBI's Uniform Crime Reporting (UCR) Program to serve as the national clearinghouse for the collection and dissemination of crime data and to publish Law Enforcement Officers Killed and Assaulted statistics annually.

Overview of This Information Collection

1. Type of Information Collection: Extension of a previously approved collection.

2. The Title of the Form/Collection: Law Enforcement Officers Killed and Assaulted.

3. The agency form number, if any, and the applicable component of the Department sponsoring the collection: The form number is 1-705 and the sponsor is the CJIS Division, FBI, DOJ.

4. Affected public who will be asked or required to respond, as well as the obligation to respond: Affected Public: Federal, state, county, city, tribal, and territorial law enforcement agencies. The obligation to respond is voluntary and at the discretion of the contributing agency.

5. An estimate of the total number of respondents and the amount of time estimated for an average respondent to respond: In 2024, there were 19,328 active law enforcement agencies within the universe of potential respondents to the FBI's UCR Program. Agencies submitting data under the National Incident-Based Reporting System (NIBRS) totaled 14,601 and 2,074 submitted data via the Summary Reporting System (SRS). LEOKA data using Form 1-705 were submitted by 1,084 agencies and the estimated maximum number of responses was 13,008. Form 1-705 requires an estimated 7 minutes to complete. This clearance is being maintained to allow agencies not yet having transitioned to NIBRS to submit LEOKA data. As SRS agencies continue to transition to NIBRS, the FBI's UCR Program expects the use of Form 1-705 to decline because the information will be submitted through NIBRS. The burden hour estimate is based on the 2024 submission volumes to achieve the highest possible burden estimate.

6. An estimate of the total annual burden (in hours) associated with the collection: There are approximately 1,517.6 annual burden hours associated with this information collection.

7. An estimate of the total annual burden (in hours) associated with the collection, if applicable:

Activity | Number of respondents | Frequency | Maximum estimated total annual responses (2024) | Time per response (minutes) | Total annual burden hours
LEOKA Form 1-705 | 1,084 | Variable | 13,008 | 7 | 1,517.6
Unduplicated Totals | 1,084 |  | 13,008 |  | 1,517.6

If additional information is required contact: Darwin Arceo, Department Clearance Officer, United States Department of Justice, Justice Management Division, Policy and Planning Staff, Two Constitution Square, 145 N Street NE, 4W-218, Washington, DC 20530.

Dated: August 4, 2025.
Darwin Arceo,
Department Clearance Officer for PRA, U.S. Department of Justice.

[FR Doc. 2025-14912 Filed 8-5-25; 8:45 am]

BILLING CODE 4410-02-P